ENVIRONMENTAL PROTECTION AGENCY

40 CFR Part 52

[EPA-R03-OAR-2010-0788; FRL-9256-2]

Approval and Promulgation of Air Quality Implementation Plans; Maryland; Adoption of Control Techniques Guidelines for Flat Wood Paneling Coatings

AGENCY: Environmental Protection Agency (EPA).

ACTION: Direct final rule.

SUMMARY: EPA is taking direct final action to approve a State Implementation Plan (SIP) revision submitted by the Maryland Department of the Environment (MDE). This SIP revision includes amendments to Maryland's regulation for Volatile Organic Compounds from Specific Processes, and meets the requirement to adopt Reasonably Available Control Technology (RACT) for sources covered by EPA's Control Techniques Guidelines (CTG) standards for flat wood paneling coatings. These amendments will reduce emissions of volatile organic compound (VOC) emissions from flat wood coating facilities. Therefore, this revision will help Maryland attain and maintain the national ambient air quality standard (NAAQS) for ozone. This action is being taken under the Clean Air Act (CAA).

DATES: This rule is effective on March 28, 2011 without further notice, unless EPA receives adverse written comment by February 25, 2011. If EPA receives such comments, it will publish a timely withdrawal of the direct final rule in the Federal Register and inform the public that the rule will not take effect.

ADDRESSES: Submit your comments, identified by Docket ID Number EPA-R03-OAR-2010-0788, by one of the following methods:

A. www.regulations.gov. Follow the on-line instructions for submitting comments.

B. E-mail: powers.marilyn@epa.gov.

C. Mail: EPA-R03-OAR-2010-0788, Marilyn Powers, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2010-0788. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an anonymous access system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Gregory Becoat, (215) 814-2036, or by e-mail at becoat.gregory@epa.gov.

SUPPLEMENTARY INFORMATION: On April 23, 2010, MDE submitted to EPA SIP revision # 10-05 concerning the adoption of the EPA CTG for flat wood paneling coatings.

I. Background

Section 172(c)(1) of the CAA provides that SIPs for nonattainment areas must include reasonably available control measures (RACM), including RACT for sources of emissions. Section 182(b)(2)(A) provides that for certain nonattainment areas, States must revise their SIPs to include RACT for sources of VOC emissions covered by a CTG document issued after November 15, 1990 and prior to the area's date of attainment.

The CTG for flat wood paneling coatings is intended to provide state and local air pollution control authorities information that should assist them in determining RACT for VOCs from flat wood paneling coating. In developing this CTG, EPA, among other things, evaluated the sources of VOC emissions from the flat wood paneling coating industry and the available control approaches for addressing these emissions, including the costs of such approaches. Based on available information and data, EPA provides recommendations for RACT for flat wood paneling coating.

In June 1978, EPA published a final CTG for flat wood paneling coatings, entitled “Control of Volatile Organic Emissions from Existing Stationary Sources, Volume VII, Factory Surface Coating of Flat Wood Paneling,” EPA-450/2-78-034 (June 1978). In September 1979, EPA published guidance to provide assistance to State and local air pollution control agencies in preparing RACT regulations for a variety of categories, including flat wood paneling. In 2003, EPA promulgated national emission standards for hazardous air pollutants (NESHAP) covering surface coating of wood building products (including flat wood paneling). See 68 FR 31746 (May 28, 2003).

Under section 183(e) of the CAA, EPA conducted a study of VOC emissions from the use of consumer and commercial products to assess their potential to contribute to levels of ozone that violate the NAAQS for ozone, and to establish criteria for regulating VOC emissions from these products. Section 183(e) of the CAA directs EPA to list for regulation those categories of products that account for at least 80 percent of the VOC emissions, on a reactivity-adjusted basis, from consumer and commercial products in areas that violate the NAAQS for ozone (i.e., ozone nonattainment areas), and to divide the list of categories to be regulated into four groups.

EPA published the original list of product categories and the original schedule that established the four groups of categories in the Federal Register on March 23, 1995 (60 FR 15264). Flexible package printing materials was included in that list. EPA noted in that notice that EPA may amend the list of products for regulation, and the groups of products for regulation, and the groups of product categories, in order to achieve an effective regulatory program in accordance with the Agency's discretion under CAA section 183(e). EPA published a revised schedule and grouping on March 18, 1999 (64 FR 13422). EPA again revised the list to regroup the product categories on November 17, 2005 (70 FR 69759). On May 16, 2006 (71 FR 28320), EPA modified the section 183(e) list and schedule for regulation by adding one category and removing one category of consumer and commercial products. Flat wood paneling coatings are included on the current section CAA183(e) list.

Flat wood paneling products are used in construction and can be classified as three main product types: decorative interior panels, exterior siding, and tileboard. A typical flat wood coating facility applies stains and varnishes to natural plywood panels used for wall coverings. This CTG applies to facilities that apply flat wood paneling coatings that emit at least 6.8 kg/day (15 lb/day) of VOC before consideration of controls. Flat wood paneling coatings means wood paneling products that are any interior, exterior or tileboard (class I hardboard) panel to which a protective, decorative, or functional material or layer has been applied. There are several approaches to reducing VOC emissions from flat wood coating facilities: (1) The use of low-VOC, waterborne coatings, (2) the use of ultraviolet cure and electron beam cure coatings, (3) adding/improving add-on controls, and (4) the implementation of work practice standards.

II. Summary of SIP Revision

On April 23, 2010, Maryland Department of the Environment (MDE) submitted to EPA a SIP revision concerning the adoption of the EPA CTG for flat wood paneling coatings. EPA develops CTGs as guidance on control requirements for source categories. States can follow the CTGs or adopt more restrictive standards. MDE is adopting EPA's CTG standards for flat wood paneling coatings (see EPA-450/2-78-034, June 1978). This SIP revision includes amendments to a new regulation .33 under COMAR 26.11.19, Volatile Organic Compounds from Specific Processes. This action affects facilities that apply stains and varnishes to natural plywood panels used for wall coverings.

New regulation COMAR 26.11.19.33—Control of Volatile Organic Compounds (VOCs) Emissions from Flat Wood Paneling Coatings contains the following requirements and standards:

(1) Section .33(A): Includes definitions for the following terms pertaining to flat wood paneling coatings: (1) “Class II finishes on hardboard panels,” “Exterior siding,” “Flat wood paneling,” “Hardwood plywood,” “Natural finish hardwood plywood panels,” “Printed interior panels,” “Thin particleboard,” and “Tileboard.”

(2) Section .33(B): Incorporates by reference ANSI A135.5-2004, Prefinished Hardwood Paneling and ANSI A135.4-2004, Basic Hardboard.

(3) Section .33(C): Describes the applicability of this regulation.

(4) Section .33(D): Includes the requirements for flat wood paneling coating. Any person who applies flat wood paneling coatings, including inks and adhesives, where total precontrol VOC emissions from all flat wood paneling coating operations at a premises is 15 pounds or more per day (6.8 kg/day) shall meet the coating standards or overall control efficiency specified in Table 1.

Table 1—Recommended Emission Limits for Flat Wood Paneling Coating Operations
Surface coatings, inks, or adhesives applied to the following flat wood paneling categories | Should meet one of these emission limits:: lb VOC per gallon material (grams VOC per liter material) [excluding water and exempt compounds] | Should meet one of these emission limits:: lb VOC per gallon solids (grams VOC per liter solids) | Should meet one of these emission limits:: Overall control efficiency using an add-on control device (%):
Printed interior panels made of hardwood, plywood, or thin particleboard | 2.1 (250) | 2.9 (350) | 90
Natural finish hardwood plywood panels | 2.1 (250) | 2.9 (350) | 90
Class II finishes on hardboard panels | 2.1 (250) | 2.9 (350) | 90
Tileboard | 2.1 (250) | 2.9 (350) | 90
Exterior siding | 2.1 (250) | 2.9 (350) | 90

III. Final Action

Maryland's April 23, 2010 SIP revision meets the CAA requirement to include RACT for sources covered by the EPA CTG for flat wood paneling coating. Therefore, EPA is approving the Maryland SIP revision that adopts the CTG standards for flat wood paneling coating. EPA is publishing this rule without prior proposal because the Agency views this as a noncontroversial amendment and anticipates no adverse comment. However, in the Proposed Rules section of today's Federal Register, EPA is publishing a separate document that will serve as the proposal to approve the SIP revision if adverse comments are filed. This rule will be effective on March 28, 2011 without further notice unless EPA receives adverse comment by February 25, 2011. If EPA receives adverse comment, EPA will publish a timely withdrawal in the Federal Register informing the public that the rule will not take effect. EPA will address all public comments in a subsequent final rule based on the proposed rule. EPA will not institute a second comment period on this action. Any parties interested in commenting must do so at this time.

IV. Statutory and Executive Order Reviews

A. General Requirements

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the Clean Air Act, petitions for judicial review of this action must be filed in the United States Court of Appeals for the appropriate circuit by March 28, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking.

This action pertaining to Maryland's adoption of the CTG standards for flat wood paneling coating may not be challenged later in proceedings to enforce its requirements. (See CAA section 307(b)(2).)

List of Subjects in 40 CFR Part 52

Environmental protection, Air pollution control, Incorporation by reference, Ozone, Reporting and recordkeeping requirements, Volatile organic compounds.

Dated: January 5, 2011.
W.C. Early,
Acting Regional Administrator, Region III.

40 CFR part 52 is amended as follows:

PART 52—[AMENDED]

1. The authority citation for part 52 continues to read as follows:

Authority: 42 U.S.C. 7401 et seq.

Subpart VB—Maryland

2. In § 52.1070, the table in paragraph (c) is amended by adding an entry for COMAR 26.11.19.33 to read as follows:

§ 52.1070 Identification of plan.

* * * * *

(c)* * *

EPA-Approved Regulations in the Maryland SIP
Code of Maryland administrative regulations (COMAR) citation | Title/subject | State effective date | EPA approval date | Additional explanation/ citation at 40 CFR 52.1100
| * * * * * * *
26.11.19 | Volatile Organic Compounds from Specific Processes
| * * * * * * *
26.11.19.33 | Control of Volatile Organic Compounds (VOCs) from Flat wood Paneling Coatings | 4/19/10 | 1/26/11 [Insert page number where the document begins] | New Regulation.
| * * * * * * *

* * * * *

[FR Doc. 2011-1489 Filed 1-25-11; 8:45 am]

BILLING CODE 6560-50-P